DEPARTMENT OF DEFENSE

Notice of the Defense Task Force on Sexual Harassment and Violence at the Military Service Academies

AGENCY: Department of Defense.

ACTION: Notice.

SUMMARY: Pursuant to the Federal Advisory Committee Act (FACA), Public Law 96-463, notice is hereby given that the Defense Task Force on Sexual Harassment and Violence at the Military Service Academies will hold an open meeting at The Thayer Hotel, 674 Thayer Road, West Point, New York 10996, on December 3, 2004 from 11 a.m. to 12 p.m.

Purpose

The Task Force will meet on December 3, 2004, from 11 a.m. until 12 p.m., and this session will be open to the public, subject to the availability of space. In keeping with the spirit of Federal Advisory Committee Act, it is the desire of the Task Force to provide the public with an opportunity to ask questions of the Task Force or to make comment regarding the current work of the Task Force. No internal Task Force meeting will be conducted at this time nor will the Task Force receive any briefings. Any interested citizens are encouraged to attend.

DATES: December 3, 2004/11 a.m.-12 p.m.

Location: The Thayer Hotel, 674 Thayer Road, West Point, New York 10996.

FOR FURTHER INFORMATION CONTACT: Any member of the public wishing further information concerning this meeting or wishing to submit comments must contact: Mr. William Harkey, Public Affairs Officer, Task Force on Sexual Harassment and Violence at the Military Service Academies, 2850 Eisenhower Ave., Suite 100, Alexandria, Virginia 22314, Telephone: (703) 325-6640, DSN# 221-6640, Fax: (703) 325-6710/6711, william.harkey.CTR@wso.whs.mil.

Interested persons may submit a written statement for consideration by the Task Force and make an oral presentation of such. Persons desiring to make an oral presentation or submit a written statement to the Committee must notify the point of contact listed above no later than 5 p.m., November 19, 2004. Oral presentations by members of the public will be permitted only on December 3, 2004, from 11 a.m. until 12 p.m. before the full Task Force. Presentations will be limited to five minutes each. Number of oral presentations to be made will depend on the number of requests received from members of the public and the time allotted. Each person desiring to make an oral presentation must provide the point of contact listed above with one (1) written copy of the presentation by 5 p.m., November 19, 2004 and bring 15 written copies of any material that is intended for distribution at the meeting. Persons submitting a written statement must submit 15 written copies of the statement to the Task Force staff by 5 p.m. on November 22, 2004.

General Information: Additional information concerning the Defense Task Force on Sexual Harassment and Violence at The Military Service Academies, its structure, function, and composition, may be found on the DTFSH and VTMA Web site (http://www.dtic.mil/dtfs).

Dated: November 9, 2004.
Jeannette Owings-Ballard,
OSD Federal Register Liaison Officer, Department of Defense.

[FR Doc. 04-25442 Filed 11-16-04; 8:45 am]

BILLING CODE 5001-06-P